DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT:

OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

On June 9, 2021, OFAC determined that the property and interests in property subject to U.S. jurisdiction of the following persons are blocked under the relevant sanctions authority listed below.

Individuals

1. ORTEGA MURILLO, Camila Antonia, Nicaragua; DOB 04 Nov 1987; POB Managua, Nicaragua; nationality Nicaragua; Gender Female; Passport A00000114 (Nicaragua) issued 28 Jun 2012 expires 28 Jun 2022; National ID No. 0010411870001B (Nicaragua) (individual) [NICARAGUA].

Designated pursuant to section 1(a)(iii) of Executive Order 13851 of November 27, 2018, “Blocking Property of Certain Persons Contributing to the Situation in Nicaragua” (“E.O. 13851”), for being an official of the Government of Nicaragua or having served as an official of the Government of Nicaragua at any time on or after January 10, 2007.

2. REYES RAMIREZ, Leonardo Ovidio, Villa Fontana, Club Terraza 2 C, Oeste, 1 C, Sur 25 VRS, Oeste Casa 137, Managua, Nicaragua; DOB 03 Apr 1965; POB Chinandega, Nicaragua; nationality Nicaragua; Gender Male; Passport A00000794 (Nicaragua) issued 28 Mar 2014 expires 28 Mar 2024; National ID No. 0810304650001P (Nicaragua) (individual) [NICARAGUA].

Designated pursuant to section 1(a)(iii) of E.O. 13851 for being an official of the Government of Nicaragua or having served as an official of the Government of Nicaragua at any time on or after January 10, 2007.

3. RODRIGUEZ BALLADARES, Julio Modesto, Nicaragua; DOB 22 Jan 1963; POB Nicaragua; nationality Nicaragua; Gender Male; Passport C01659683 (Nicaragua) issued 14 Apr 2014 expires 14 Apr 2024; National ID No. 0012201630050J (Nicaragua) (individual) [NICARAGUA].

Designated pursuant to section 1(a)(iii) of E.O. 13851 for being an official of the Government of Nicaragua or having served as an official of the Government of Nicaragua at any time on or after January 10, 2007.

4. CASTRO RIVERA, Edwin Ramon, Nicaragua; DOB 05 Jan 1957; POB Leon, Nicaragua; nationality Nicaragua; Gender Male; Passport A0008826 (Nicaragua) issued 02 Feb 2012 expires 02 Feb 2022; National ID No. 2810501570012H (Nicaragua) (individual) [NICARAGUA].

Designated pursuant to section 1(a)(iii) of E.O. 13851 for being an official of the Government of Nicaragua or having served as an official of the Government of Nicaragua at any time on or after January 10, 2007.

Dated: June 9, 2021.
Bradley T. Smith,
Acting Director, Office of Foreign Assets Control, U.S. Department of the Treasury.

[FR Doc. 2021-13083 Filed 6-21-21; 8:45 am]

BILLING CODE 4810-AL-P